DEPARTMENT OF THE INTERIOR

National Park Service

[N6341; NPS-WASO-NAGPRA-NPS0040596; PPWOCRADN0-PCU00RP14.R50000]

Notice of Intended Repatriation: Bruce Museum Greenwich, CT

AGENCY: National Park Service, Interior.

ACTION: Notice.

SUMMARY: In accordance with the Native American Graves Protection and Repatriation Act (NAGPRA), the Bruce Museum intends to repatriate certain cultural items that meet the definition of sacred objects and that have a cultural affiliation with the Indian Tribes or Native Hawaiian organizations in this notice.

DATES: Repatriation of the cultural items in this notice may occur on or after August 28, 2025.

ADDRESSES: Send additional, written requests for repatriation of the cultural items in this notice to Kirsten J. Reinhardt, the Bruce Museum, One Museum Drive Greenwich, CT 06830, email kreinhardt@brucemuseum.org.

SUPPLEMENTARY INFORMATION: This notice is published as part of the National Park Service's administrative responsibilities under NAGPRA. The determinations in this notice are the sole responsibility of the Bruce Museum, and additional information on the determinations in this notice, including the results of consultation, can be found in the summary or related records. The National Park Service is not responsible for the determinations in this notice.

Abstract of Information Available

A total of two cultural items have been requested for repatriation. The two sacred objects are a Makau (77.14.14 Fishhook) and a Pōhaku Ku'i 'Ai (19117 Poi Pounder).

Makau Fishhook

A compound fishhook made from mammal bones. In 1977, a collection of 19 objects, from a wide variety of tribal Nations, was donated by Frederic E. Ossorio (1919-2005). Some objects in the collection were reported as formerly part of the Harry Geoffrey Beasley (1881-1939) collection; Beasley was a British collector. It is unknown how Ossoriao came into possession of the objects. No potentially hazardous substances have been used to treat the objects.

Pōhaku Ku'i 'Ai Poi Pounder

A pestle made of stone (pōhaku) used to pound steamed taro (kalo) into poi, steamed ulu (breadfruit) into poi and to prepare other foods ('ai) through light pounding (ku'i). Mr. James B. Hatcher, b.1906, became editor of the Honolulu Star Bulletin in 1929 and later of the Hilo Tribune-Herald. He also wrote a tour book, “Highlights of Hawaii.” The pestle is described as having been collected at Kalapana, Hawaii in 1932. No potentially hazardous substances have been used to treat the pounder.

Determinations

The Bruce Museum has determined that:

• The two sacred objects described in this notice are specific ceremonial objects needed by a traditional Native American religious leader for present-day adherents to practice traditional Native American religion, according to the Native American traditional knowledge of a lineal descendant, Indian Tribe, or Native Hawaiian organization.

• There is a connection between the cultural items described in this notice and the Hui Iwi Kuamo'o.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 28, 2025. If competing requests for repatriation are received, the Bruce Museum must determine the most appropriate requestor prior to repatriation. Requests for joint repatriation of the cultural items are considered a single request and not competing requests. The Bruce Museums responsible for sending a copy of this notice to the Indian Tribes and Native Hawaiian organizations identified in this notice and to any other consulting parties.

Authority: Native American Graves Protection and Repatriation Act, 25 U.S.C. 3004 and the implementing regulations, 43 CFR 10.9.

Dated: July 9, 2025.
Melanie O'Brien,
Manager, National NAGPRA Program.

[FR Doc. 2025-14260 Filed 7-28-25; 8:45 am]

BILLING CODE 4312-52-P